Proclamation 9299 of July 10, 2015

Establishment of the Waco Mammoth National Monument

By the President of the United States of America

A Proclamation

In 1978, two young fossil hunters found a large bone protruding from an eroded ravine near the Bosque River about 4.5 miles north of the center of Waco, Texas. They took the bone to nearby Baylor University, where it was identified as part of the femur (upper leg bone) of a Columbian Mammoth (Mammuthus columbi), a dominant species in North America during the Pleistocene Epoch. The Columbian Mammoth, the largest of all mammoth species, stood with a shoulder height reaching 12 to 14 feet and weighed an estimated 7 to 8 tons. Over the next 20 years, Baylor University oversaw the excavation of the site, where the remains of 24 Columbian Mammoths were found, along with the remains of associated animals of the late Pleistocene, including Western Camel (Camelops hesternus), saber-toothed cat (Homotherium), dwarf antelope (cf. Capromeryx), American Alligator (Alligator mississippiensis), and giant tortoise (Hesperotestudo).

These remains contain the Nation's only recorded discovery of a nursery herd (females and offspring) of Pleistocene mammoths, comprising at least 18 of the unearthed mammoths. The nursery herd appears to have drowned in a single natural event near the confluence of the ancient Bosque and Brazos Rivers between 65,000 and 72,000 years ago. Because the nursery herd was buried rapidly in the mud associated with the rising waters, the remains of the herd include nearly intact skeletons apparently positioned as at the moment of death. The herd's preservation in this manner provides unparalleled evidence of the group's age structure and behavior during a natural catastrophe. For example, the herd apparently formed a circular defensive position with the adults attempting to rescue the offspring. In two cases, the bones of a juvenile lay across the tusks of an adult, suggesting that these adults were trying to lift the juveniles to safety.

Including the nursery herd, the remains of 22 Columbian Mammoths have been documented in the excavation area, and evidence of 2 more was discovered during construction of the Dig Shelter that protects the excavation area. One of the skeletons discovered in sediments above the nursery herd is a large bull mammoth with a broken but healed rib, suggesting a fight with another bull during the mammoth equivalent of modern elephants' musth, or rutting season. The presence of mammoths in the excavation area at sediment levels representing a span of several thousands of years suggests that the species had an affinity for this area at the interface of two ecosystems, the Great Plains and the Gulf Coastal Plains.

The excavation area, as well as the land extending beyond it toward the Brazos and Bosque Rivers, offer excellent opportunities for further exploration and research. More than half of the area protected by the Dig Shelter remains unexcavated, and virtually all the acreage outside the Dig Shelter remains unsurveyed for paleontological resources. Future discoveries are anticipated both within and outside the Dig Shelter.

While Baylor University oversaw the excavation, study, and preservation of the fossils, the City of Waco acquired the parcels of land containing and surrounding the excavation area and assembled a city park known as the Waco Mammoth Site, which opened to the public in 2009. Although most of the excavated bones of the mammoths and associated fauna are now at Baylor University's Mayborn Museum awaiting preparation and curation, some exposed bones remain at the Site, protected by the climate-controlled Dig Shelter, which facilitates public viewing, interpretation, and study.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected;

WHEREAS, the City of Waco has been operating the approximately 108.5 acre Waco Mammoth Site (including the excavation area and surrounding lands) as a park since 2009, in partnership with Baylor University and with support from the nonprofit Waco Mammoth Foundation, Inc.;

WHEREAS, the City of Waco, Baylor University, the Waco Mammoth Foundation, Inc., and other members of the Waco community have demonstrated support for the establishment of a national monument to be administered by the National Park Service;

WHEREAS, the National Park Service conducted a special resource study of the Waco Mammoth Site, pursuant to Public Law 107-341, and determined that the Site met the criteria for inclusion in the National Park System;

WHEREAS, in support of the establishment of a national monument to be administered by the National Park Service, the City has donated certain lands and appurtenant easements to the Federal Government;

WHEREAS, the City of Waco and Baylor University have also indicated their intent to transfer ownership of the excavated specimens and archival records to the Federal Government for monument purposes;

WHEREAS, the City of Waco intends that the partnership between the City of Waco, Baylor University, and the Waco Mammoth Foundation, Inc., continue to cooperatively manage, oversee, and maintain the Waco Mammoth Site and expand the partnership to include the National Park Service;

WHEREAS, it is in the public interest to preserve and protect the scientific objects at the Waco Mammoth Site;

NOW, THEREFORE, I, BARACK OBAMA, President of the United States of America, by the authority vested in me by section 320301 of title 54, United States Code, hereby proclaim the objects identified above that are situated upon lands and interests in lands owned or controlled by the Federal Government to be the Waco Mammoth National Monument (monument) and, for the purpose of protecting those objects, reserve as a part thereof all lands and interests in lands owned or controlled by the Federal Government within the boundaries described on the accompanying map entitled, “Waco Mammoth National Monument,” which is attached to and forms a part of this proclamation. The reserved Federal lands and interests in lands encompass approximately 7.11 acres, including appurtenant easements for all necessary purposes. The boundaries described on the accompanying map are confined to the smallest area compatible with the proper care and management of the objects to be protected.

All Federal lands and interests in lands within the boundaries described on the accompanying map are hereby appropriated and withdrawn from all forms of entry, location, selection, sale, or other disposition under the public land laws, from location, entry, and patent under the mining laws, and from disposition under all laws relating to mineral and geothermal leasing.

The establishment of the monument is subject to valid existing rights. Lands and interests in lands not owned or controlled by the Federal Government within the boundaries described on the accompanying map shall be reserved as a part of the monument, and objects identified above that are situated upon those lands and interests in lands shall be part of the monument, upon acquisition of ownership or control by the Federal Government.

The Secretary of the Interior (Secretary) shall manage the monument through the National Park Service, pursuant to applicable legal authorities, consistent with the purposes and provisions of this proclamation. The Secretary shall prepare a management plan for the monument, with full public involvement, within 3 years of the date of this proclamation. The management plan shall ensure that the monument fulfills the following purposes for the benefit of present and future generations: (1) to preserve and protect the objects of scientific interest associated with the monument; (2) to foster and facilitate appropriate research; (3) to promote understanding and stewardship of the monument's resources and values through interpretive and educational opportunities; and (4) to provide for the enjoyment of the monument's resources and values in a manner that is compatible with their preservation. The management plan shall address the desired relationship of the monument to other sites with paleontological resources both within and outside the National Park System.

The National Park Service shall use available authorities, as appropriate, to enter into agreements with governmental and nongovernmental organizations, including the City of Waco, Baylor University, the Waco Mammoth Foundation, Inc., to further the purposes of the monument, address common interests, and promote management efficiencies.

Nothing in this proclamation shall be deemed to revoke any existing withdrawal, reservation, or appropriation; however, the monument shall be the dominant reservation.

Warning is hereby given to all unauthorized persons not to appropriate, injure, destroy, or remove any feature of this monument and not to locate or settle upon any of the lands thereof.

IN WITNESS WHEREOF, I have hereunto set my hand this tenth day of July, in the year of our Lord two thousand fifteen, and of the Independence of the United States of America the two hundred and fortieth.

Billing code 3295-F5-P

[FR Doc. 2015-17564

Filed 7-14-15; 11:15 am]

Billing code 4310-10-C